FEDERAL COMMUNICATIONS COMMISSION

47 CFR Part 73

[DA 08-1721; MB Docket No. 06-72; RM-11245, RM-11340]

Radio Broadcasting Services; Arlington and Boardman, OR; Boise and Caldwell, ID; Elko, NV; Finley, WA; Grangeville, Hazelton, Iona, Jerome, McCall, and Melba, ID; Owyhee, NV; Pasco, WV; Salmon and Sun Valley, ID; Walla Walla, WA; West Yellowstone, MT

AGENCY: Federal Communications Commission.

ACTION: Final rule.

SUMMARY: In response to a Notice of Proposed Rule Making, this Report and Order allots Channel 231C3 to Boardman, Oregon, and Channel 247C3 to Owyhee, Nevada, as first local aural transmission services to those communities. The coordinates for Channel 231C3 at Boardman, Oregon are 45-53-51 NL and 119-55-21 WL. The coordinates for Channel 247C3 at Owyhee, Nevada are 41-55-26 NL and 116-11-16 WL. The Report and Order also grants an amended counterproposal filed by College Creek Media, LLC (“College Creek”) that includes the above referenced allotment at Owyhee, Nevada. See SUPPLEMENTARY INFORMATION.

DATES: Effective September 8, 2008.

ADDRESSES: Secretary, Federal Communications Commission, 445 Twelfth Street, SW., Washington, DC 20554.

FOR FURTHER INFORMATION CONTACT: R. Barthen Gorman, Media Bureau, (202) 418-2180.

SUPPLEMENTARY INFORMATION: This is a synopsis of the Commission's Report and Order in MB Docket No. 06-72, adopted July 23, 2008, and released July 25, 2008. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC, 20554, telephone 1-800-378-3160 or http://www.BCPIWEB.com. The Commission will send a copy of this Report and Order in a report to be sent to Congress and the General Accounting Office pursuant to the Congressional Review Act, see 5 U.S.C. 801(a)(1)(A).

The following changes in the Media Bureau's Consolidated Data Base Systems were made to reflect the following reserved assignments. Thus, to accommodate the allotment of Channel 247C3 to Owyhee, Nevada, Channel 249C was substituted for Channel 248C, Station KPHD(FM), Elko, Nevada, and reassigned to Melba, Idaho, as Melba's second local aural transmission service. The coordinates for Channel 249C at Melba are 42-51-53 NL and 116-28-39 WL. To reduce the loss area created by the relocation of Station KPHD from Elko, Nevada, to Melba, Idaho, the Commission substituted Channel 237C for Channel 237C1 at Station KRJC(FM), Elko, Nevada, at coordinates of 40-54-35 NL and 115-49-05 WL. To accommodate the allotment of Channel 249C to Melba, Idaho, the Commission substituted Channel 274C for Channel 250C at Station KQFC(FM), Boise, Idaho, at coordinates of 43-45-21 NL and 116-05-54 WL. To accommodate the allotment of Channel 274C to Boise, the Commission has substituted Channel 278C for Channel 277C at Station KSAS-FM, Caldwell, Idaho, at coordinates of 43-45-18 NL and 116-05-52 WL. In order to allow the allotment of Channel 278C to Caldwell, the Commission substituted Channel 233C0 for Channel 279C at Station KSKI-FM, Sun Valley, Idaho, at coordinates of 43-41-06 NL and 114-22-57 WL. To accommodate the allotment of Channel 233C0 to Sun Valley, the Commission previously substituted Channel 260A for Channel 233C0 and, in this proceeding, has substituted Channel 260C1 for Channel 260A at Salmon, Idaho, at coordinates of 45-10-02 NL and 113-52-14 WL. To eliminate the white area created by the removal of Channel 233C0 from Salmon, Idaho, the Commission substituted Channel 225C0 for Channel 224A, Station KSRA-FM, Salmon, Idaho at coordinates of 45-08-42 NL and 114-00-36 WL. To accommodate the allotment of Channel 225C0 to Salmon, Idaho, the Commission substituted Channel 224C0 for Channel 225C at Station KEZQ(FM), West Yellowstone, Montana, and changed Station KEZQ(FM)'s community of license to Iona, Idaho, at coordinates of 43-57-10 NL and 111-52-18 WL, thus providing Iona with its first local aural transmission service. To further accommodate the allotment of Channel 233C0 to Sun Valley, Idaho, the Commission substituted Channel 224C3 for Channel 232C3 at Station KTPZ(FM), Hazelton, Idaho, at coordinates of 42-43-54 NL and 114-25-04 WL. To accommodate the allotment of Channel 274C to Boise, the Commission substituted Channel 276C3 for vacant Channel 275C3 at McCall, Idaho, at coordinates of 44-54-30 NL and 116-06-00 WL. To further accommodate the allotment of Channel 274C to Boise, Idaho, the Commission substituted Channel 276C1 for Channel 275C1 at Station KMVX(FM), Jerome, Idaho, at coordinates of 42-43-54 NL and 114-25-04 WL.

List of Subjects in 47 CFR Part 73

Radio, Radio broadcasting.

As stated in the preamble, the Federal Communications Commission amends 47 CFR part 73 as follows:

PART 73—RADIO BROADCAST SERVICES

1. The authority citation for part 73 reads as follows:

Authority: 47 U.S.C. 154, 303, 334, 336.

§ 73.202 [Amended]

2. Section 73.202(b), the Table of FM Allotments under Idaho, is amended by removing Channel 275C3 and by adding Channel 276C3 at McCall.

3. Section 73.202(b), the Table of FM Allotments under Nevada, is amended by adding Owyhee, Channel 247C3.

4. Section 73.202(b), the Table of FM Allotments under Oregon, is amended by adding Boardman, Channel 231C3.

Federal Communications Commission.
John A. Karousos,
Assistant Chief, Audio Division Media Bureau.

[FR Doc. E8-19890 Filed 8-27-08; 8:45 am]

BILLING CODE 6712-01-P